DEPARTMENT OF DEFENSE

[Docket ID: DoD-2021-OS-0062]

Privacy Act of 1974; System of Records

AGENCY: United States Central Command (USCENTCOM), Department of Defense (DoD).

ACTION: Notice of a new system of records.

SUMMARY: USCENTCOM is adding a new system of records entitled, “Contract Employees Vetting and Arming Authorization,” FCENTCOM 05. This system provides multiple functionalities, including providing registration and vetting for contract employees working in the USCENTCOM Area of Operations and authorizing those contract employees to bear arms and ammunition.

DATES: This system of records is effective upon publication; however, comments on the Routine Uses will be accepted on or before August 19, 2021. The Routine Uses are effective at the close of the comment period.

ADDRESSES: You may submit comments, identified by docket number and title, by any of the following methods:

* Federal Rulemaking Portal: https://www.regulations.gov.

Follow the instructions for submitting comments.

* Mail: DoD cannot receive written comments at this time due to the COVID-19 pandemic. Comments should be sent electronically to the docket listed above.

Instructions: All submissions received must include the agency name and docket number for this Federal Register document. The general policy for comments and other submissions from members of the public is to make these submissions available for public viewing on the internet at https://www.regulations.gov as they are received without change, including any personal identifiers or contact information.

FOR FURTHER INFORMATION CONTACT: Evlyn Hearne, Chief, FOIA/PA, U.S. Central Command (CCJ6-RDF), 7115 South Boundary Boulevard, MacDill AFB, FL 33621-5101, evlyn.a.hearne.civ@mail.mil, or at (813) 529-6135.

SUPPLEMENTARY INFORMATION:

I. Background

The Contract Employees Vetting and Arming Authorization system of records maintains USCENTCOM's registration, investigation, and verification of contract employees to work for the command in the theater of operations. The system also maintains the records of authorization for these employees to carry firearms and ammunition in this hostile threat area. This system of records will cover these records maintained in USCENTCOM IT systems, and any paper records that may be associated with it. This includes records maintained in the Joint Contingency Contracting System (JCCS), which registers and investigates contractors to verify their personal information and evaluates them for trustworthiness to work with DoD military and civilian employees and to access military installations located in the USCENTCOM Area of Operations.

DoD SORNs have been published in the Federal Register and are available from the address in FOR FURTHER INFORMATION CONTACT or at the Defense Privacy, Civil Liberties, and Transparency Division website at https://dpcld.defense.gov/privacy.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, DoD has provided a report of this system of records to the OMB and to Congress.

Dated: July 13, 2021.
Aaron T. Siegel,
Alternate OSD Federal Register Liaison Officer, Department of Defense.

SYSTEM NAME AND NUMBER:

Contract Employees Vetting and Arming Authorization, FCENTCOM 05.

SECURITY CLASSIFICATION:

Unclassified.

SYSTEM LOCATION:

Defense Information Systems Agency (DISA), Defense Enterprise Computing Center (DECC) Ogden, 7879 Wardleigh Road, Hill AFB, UT 84056-5997.

SYSTEM MANAGER(S):

Joint Contingency Expeditionary Systems (JCXS) Portfolio Manager, Defense Logistics Agency (DLA), Joint Contingency and Expeditionary Services (JCXS), 8725 John J. Kingman Road, Fort Belvoir, VA 22060. jccs.support@dla.mil.

AUTHORITY FOR MAINTENANCE OF THE SYSTEM:

Section 822 of Public Law 116-92, “National Defense Authorization Act for Fiscal Year 2020,” December 20, 2020; Section 872 of Public Law 115-232, “National Defense Authorization Act for Fiscal Year 2019,” August 13, 2018; Sections 841 to 843 of Public Law 113-291, “National Defense Authorization Act for Fiscal Year 2015,” December 19, 2014; DoD DTM 18-003, “Prohibition on Providing Funds to the Enemy and Authorization of Additional Access to Records,” April 9, 2018; USCENTCOM EXORD on Designation of Vendor Vetting Responsibilities in the USCENTCOM Theater Area of Operation, November 3, 2017; USCENTCOM EXORD on Designation of Vendor Vetting Responsibilities in the USCENTCOM Theater Area of Operation, MOD 01, July 10, 2019.

PURPOSE(S) OF THE SYSTEM:

This system of records maintains USCENTCOM's registration, investigation, and verification of contract employees to work for the command in the theater of operations. The system also maintains the records of authorization for these employees to carry firearms and ammunition in this hostile threat area.

CATEGORIES OF INDIVIDUALS COVERED BY THE SYSTEM:

DoD contract employees and other federal agency contract employees.

CATEGORIES OF RECORDS IN THE SYSTEM:

Identity information including name, telephone number(s), email address(es), Social Security number, other government-issued personal identification documents; criminal history information, (e.g., arrests, convictions); financial information, limited to the number of shares of stock the employee holds in the company which employs him/her; and employment information, including employer's name and contact information.

RECORD SOURCE CATEGORIES:

Information is obtained from the individual and from DoD and other federal agencies.

ROUTINE USES OF RECORDS MAINTAINED IN THE SYSTEM, INCLUDING CATEGORIES OF USERS AND THE PURPOSES OF SUCH USES:

In addition to those disclosures generally permitted under 5 U.S.C. 552a(b) of the Privacy Act of 1974, as amended, records contained herein may specifically be disclosed outside the DoD as a routine use pursuant to 5 U.S.C. 552a(b)(3) as follows:

A. To contractors, grantees, experts, consultants, students, and others performing or working on a contract, service, grant, cooperative agreement, or other assignment for the Federal Government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To such recipients and under such circumstances and procedures as are mandated by Federal statute or treaty.

J. To Federal intelligence and law enforcement agencies to determine if a contract employee is suspected or confirmed to be affiliated with bad actors including, but not limited to, human traffickers, terrorists, drug traffickers, or individuals involved in other criminal activities or human rights violations.

K. To North Atlantic Treaty Organization (NATO) personnel working alongside DoD in theater, who are hiring contract employees to move goods and provide services such as food service and physical security.

POLICIES AND PRACTICES FOR STORAGE OF RECORDS:

The records are stored in paper form and on electronic storage media. The records may be stored on magnetic disc, tape, or digital media; in agency-owned cloud environments; or in vendor Cloud Service Offerings certified under the Federal Risk and Authorization Management Program (FedRAMP).

POLICIES AND PRACTICES FOR RETRIEVAL OF RECORDS:

Records are retrieved by the contract employee's name.

POLICIES AND PRACTICES FOR RETENTION AND DISPOSAL OF RECORDS:

A. Individual records for contract employees maintained in the system may be destroyed or deleted no less than 7 years and no more than 10 years after cutoff of calendar year of employee termination.

B. Correspondence, memorandums, and other records relating to codes of ethics and standards of conduct information where contract employees were denied opportunity to work or carry arms in the USCENTCOM theater: These are cut off upon completion of final action, held 50 years, and then may be destroyed/deleted. Earlier destruction is authorized for routine materials not needed for legal purposes.

ADMINISTRATIVE, TECHNICAL, AND PHYSICAL SAFEGUARDS:

Records are maintained in a controlled facility. Physical entry is restricted by the use of locks, guards, and is accessible only to authorized personnel. Access to computerized data is restricted by Common Access Cards. Access to records is limited to person(s) responsible for servicing the records in the performance of their official duties and who are properly screened and cleared for need-to-know. All individuals granted access to this system of records are required to have taken Information Assurance and Privacy Act training.

RECORD ACCESS PROCEDURES:

Individuals seeking access to information about themselves contained in this system of records should address written requests to Chief, USCENTCOM FOIA/PA, FOIA Requester Service Center, 7115 South Boundary Boulevard, MacDill AFB, FL 33621-5101or be email at: centcom.macdill.centcom-hq.mbx.freedom-of-information-act@mail.mil: Signed, written requests should contain the full name, identifier (i.e., SSN or DoD ID Number), current address and telephone number of the individual. In addition, the requester must provide either a notarized statement or a declaration made in accordance with 28 U.S.C. 1746, using the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents, and appealing initial Component determinations are published in 32 CFR part 310 or may be obtained from the system manager.

NOTIFICATION PROCEDURES:

Individuals seeking to determine whether information about themselves is contained in this system of records should follow the instructions for Record Access Procedures above.

EXEMPTIONS PROMULGATED FOR THE SYSTEM:

None.

HISTORY:

None.

[FR Doc. 2021-15392 Filed 7-19-21; 8:45 am]

BILLING CODE 5001-06-P